DEPARTMENT OF TRANSPORTATION

National Highway Traffic Safety Administration

[Docket No. NHTSA-2012-0141, Notice 1]

Notice of Receipt of Petition for Decision That Nonconforming 2012 Lita GLE-6 Low-Speed Vehicles Are Eligible for Importation

AGENCY: National Highway Traffic Safety Administration, DOT

ACTION: Notice of receipt of petition.

SUMMARY: This document announces receipt by the National Highway Traffic Safety Administration (NHTSA) of a petition for a decision that 2012 Lita GLE-6 low-speed vehicles (LSV) that were not originally manufactured to comply with all applicable Federal Motor Vehicle Safety Standards (FMVSS) are eligible for importation into the United States because they have safety features that comply with, or are capable of being altered to comply with, all such standards.

DATES: The closing date for comments on the petition is June 20, 2013.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: 202-493-2251

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to Read Comments submitted to the Docket: You may read the comments received by Docket Management at the address and times given above. You may also view the documents from the Internet at http://www.regulations.gov.

Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: Coleman Sachs, Office of Vehicle Safety Compliance, NHTSA (202-366-3151).

SUPPLEMENTARY INFORMATION:

Background

Under 49 U.S.C. 30141(a)(1)(B), a motor vehicle, that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

US SPECS of Havre de Grace, Maryland (Registered Importer 03-321) has petitioned NHTSA to decide whether nonconforming 2012 Lita GLE-6 LSVs are eligible for importation into the United States. US SPECS believes these vehicles are capable of being modified to meet all applicable FMVSS.

US SPECS submitted information with its petition intended to demonstrate that while 2012 Lita GLE-6 LSVs do not conform to any FMVSS as originally manufactured, they are capable of being altered to comply with all applicable FMVSS.

Specifically, the petitioner contends that the nonconforming 2012 Lita GLE-6 LSVs are capable of being readily altered to meet FMVSS No. 500 as follows:

1. Installation of headlights if not already so equipped.

2. Installation of turn signals if not already so equipped.

3. Installation of taillamps if not already so equipped.

4. Installation of stop lamps if not already so equipped.

5. Installation of reflex reflectors if the vehicle is not already so equipped.

6. Installation of driver and passenger mirrors if not already so equipped.

7. Installation of a parking brake if not already so equipped.

8. Installation of a windshield that meets the requirements of FMVSS No. 205 if not already so equipped.

9. Installation of Type 1 or Type 2 Seat belts that meet the requirements of FMVSS No. 209 at each designated seating position if not already so equipped.

10. Every vehicle must be weighed. Any vehicle exceeding the gross vehicle weight rating (GVWR) limit for low speed vehicles (3,000 lbs.) must have a sufficient number of designated seating positions removed to bring the GVWR below that limit.

11. Every vehicle must be checked to ensure that it does not exceed the maximum (25 MPH) speed requirement. Any vehicle that does not meet the requirement must have its control system reprogrammed to ensure that the vehicle meets the maximum speed requirement.

12. Every vehicle must be checked to ensure that it can meet the minimum (20 mph) speed requirement. Any vehicle that does not meet the requirement must have its control system reprogramed to ensure that the vehicle meets the minimum speed requirement.

In addition, the petitioner states that a vehicle identification number plate or label must be installed to meet the requirements of 49 CFR part 565 if the vehicle is not already so equipped.

It should be noted that the publication of this notice is not an acknowledgment that the vehicle that is the subject of the petition, the 2012 Lita GLE-6, is a low speed vehicle. In addition, in NHTSA's view, a vehicle that is not a low speed vehicle may not be converted to one by installing a governor (electronic or mechanical) or by removing weight such as by removing a seat, which may be reinstalled. The vehicle at issue is the 2012 Lita GLE-6. Comments are invited on these matters.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.95 and 501.8.

Issued on: May 14, 2013.
Claude H. Harris,
Director, Office of Vehicle Safety Compliance.

[FR Doc. 2013-12069 Filed 5-20-13; 8:45 am]

BILLING CODE 4910-59-P